DEPARTMENT OF TRANSPORTATION

Federal Aviation Administration

14 CFR Part 71

[Docket No. FAA-2024-2055; Airspace Docket No. 22-AWP-56]

RIN 2120-AA66

Modification of Class D Airspace, Establishment of Class E Airspace; San Bernardino International Airport, San Bernardino, CA

AGENCY: Federal Aviation Administration (FAA), DOT.

ACTION: Proposed rule; withdrawal.

SUMMARY: The FAA is withdrawing the notice of proposed rulemaking (NPRM) published in the Federal Register on October 11, 2024, which proposed to modify the Class D airspace, establish Class E airspace designated as an extension to a Class D surface area, and update the administrative portion of the legal description at San Bernardino International Airport, CA (KSBD).

DATES: Effective as of 0901 UTC, April 18, 2025, the proposed rule for KSBD (89 FR 82538; October 11, 2024) is withdrawn.

FOR FURTHER INFORMATION CONTACT: Nathan A. Chaffman, Federal Aviation Administration, Western Service Center, Operations Support Group, 2200 S 216th Street, Des Moines, WA 98198; telephone (206) 231-3460.

SUPPLEMENTARY INFORMATION:

History

The FAA published an NPRM in the Federal Register for Docket No. FAA-2024-2055 (89 FR 82538; October 11, 2024) to modify the Class D airspace, establish Class E airspace designated as an extension to a Class D surface area, and update the administrative portion of the legal description at KSBD. Interested parties were invited to participate in this rulemaking effort by submitting written comments on the proposal. Forty-six written comments and three phone calls were received in reference to the proposed action. Most comments were against the proposal and centered around KSBD/Redland Municipal Airport's (KREI) airspace proximity/complexity, lack of RADAR/surveillance equipment at KSBD, and/or the effects of wake turbulence. Two comments were received in favor of the proposal.

The three comments received by phone requested either an extension to the comment period or an image of the proposal. The FAA published an NPRM in the Federal Register for Docket No. FAA-2024-2055 (89 FR 86761; October 31, 2024) to extend the docket's comment period by 15 days. On November 20, 2024, the FAA added an image of the proposed airspace to the docket via a comment that estimated how it would be presented within a visual flight rules (VFR) sectional chart.

Thirty commentors expressed concern over the 100-foot proximity between KREI's published traffic pattern altitude (2,500 feet mean sea level [MSL]) and the base of the proposed Class D airspace shelf (2,600 feet MSL), and that the lack of vertical separation between the two areas could introduce conflicts to aircraft operating in and around the vicinity of KREI. The FAA agrees that the Class D shelf within the proposal could compress KREI traffic under the shelf. Two of the 26 comments on this subject suggested the establishment of a terminal radar service area as a potential mitigation tool; this would define an area in which participating VFR aircraft would be separated from instrument flight rules (IFR) aircraft and other participating VFR aircraft, in addition to basic radar services.

Eighteen comments expressed concern about wake turbulence that could be caused by the arrival procedures to Runway 24 at KSBD. These comments are not germane to this proposal.

Twenty-three comments suggested installing surveillance equipment at KSBD. These comments are not germane to the proposal.

Eighteen comments expressed environmental concerns of increased noise, air pollution, insufficient lighting, and economic impacts to the surrounding areas. These comments are not germane to the proposal.

Nine comments expressed concern that a Class E airspace surface area extension north through east of KREI would prohibit ultralight operations. Code of Federal Regulations Title 14 § 103.17 states that no person may operate an ultralight vehicle within Class A, Class B, Class C, or Class D airspace or within the lateral boundaries of the surface area of Class E airspace designated for an airport unless that person has prior authorization from the air traffic control facility having jurisdiction over that airspace. Ultralight activity is permitted within Class E airspace areas designated as an extension to a Class D or Class E surface area, as the airspace is not designated for an airport.

Nine comments expressed concern over the lack of a common traffic frequency/universal communication frequency or facility-to-facility coordination. These comments are not germane to the proposal.

Five comments expressed concern about the lack of official weather reporting equipment at KREI. These comments are not germane to the proposal.

One commenter pointed out that KREI's sole instrument approach would impose on the proposed Class D shelf at KSBD. This comment is not germane, as the proposal is being withdrawn.

Concern was expressed by seven commenters over a perceived safety risk to northerly KREI departures caused by the proposed Class D shelf. The FAA acknowledges that the proposed Class D shelf could compress KREI traffic. Five commenters expressed concern that the proposed expansion to the northern lateral boundary to the Class D surface area would impact northern circumnavigation of KSBD. This proposal is being withdrawn and future designs will take these comments into consideration.

The Withdrawal

In consideration of the foregoing, the NPRM for Docket No. FAA-2024-2055 (89 FR 82538; October 11, 2024), FR Doc. 2024-23497 is hereby withdrawn.

Issued in Des Moines, Washington, on April 14, 2025.
B.G. Chew,
Group Manager, Operations Support Group, Western Service Center.

[FR Doc. 2025-06609 Filed 4-17-25; 8:45 am]

BILLING CODE 4910-13-P